DEPARTMENT OF COMMERCE

Foreign-Trade Zones Board

[Docket 9-2005]

Foreign-Trade Zone 40, Cleveland, OH; Request for Manufacturing Authority (Oil Burner Units)

An application has been submitted to the Foreign-Trade Zones Board (the Board) by the Cleveland-Cuyahoga County Port Authority, grantee of FTZ 40, requesting authority on behalf of the R.W. Beckett Company for the manufacture of oil burner units under FTZ procedures within proposed Site 13 of FTZ 40 in Lorain County, Ohio. The application was submitted pursuant to the provisions of the Foreign-Trade Zones Act, as amended (19 U.S.C. 81a-81u), and the regulations of the Board (15 CFR part 400). It was formally filed on February 22, 2005.

R.W. Beckett operates a manufacturing facility (200 employees) within proposed site 13 of FTZ 40 for the production of burner units for oil furnaces. The finished products would enter the United States duty free. Imported inputs are projected to comprise 29 percent of the value of finished products produced under FTZ procedures.

The company indicates that the foreign inputs that may be admitted under FTZ procedures are the following: oil igniter; solenoid valve; burner motor (AC); transformer; and electronic timer. Duty rates on the proposed imported components currently range from 1.7 to 6.6 percent.

This application requests authority for R.W. Beckett to conduct the activity under FTZ procedures, which would exempt the company from Customs duty payments on the foreign components used in export activity. On its domestic sales, the company would be able to choose the duty rate that applies to finished products for the foreign components noted above. The company would also be exempt from duty payments on foreign merchandise that becomes scrap/waste. The application indicates that the savings would help improve the facility's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

The closing period for their receipt is April 29, 2005. Rebuttal comments in response to material submitted during the foregoing period may be submitted during the subsequent 15-day period to May 16, 2005.

A copy of the application and accompanying exhibits will be available for public inspection at the Office of the Foreign-Trade Zones Board's Executive Secretary at the first address listed above, and at the Cleveland U.S. Export Assistance Center, Suite 700, 600 Superior Avenue, East, Cleveland, OH 44114.

Dennis Puccinelli,
Executive Secretary.

[FR Doc. 05-3813 Filed 2-25-05; 8:45 am]

BILLING CODE 3510-DS-P